NATIONAL TRANSPORTATION SAFETY BOARD

[Docket No.: NTSB-2021-0009]

Office of the Managing Director: Strategic Management Program Fiscal Year (FY) 2022-2026 Strategic Plan

AGENCY: National Transportation Safety Board (NTSB).

ACTION: Notice; issuance of final publication.

SUMMARY: The NTSB announces the availability of the following publication: “NTSB FY 2022-2026 Strategic Plan”.

DATES: The plan was published on February 23, 2022.

ADDRESSES: This document may be obtained at the following link: https://www.ntsb.gov/about/reports/Documents/FY-22-26-Strategic-Plansig.pdf.

FOR FURTHER INFORMATION CONTACT: John DeLisi, Senior Advisor for Policy and Strategic Initiatives, (202) 314-6000, strategicplan@ntsb.gov.

SUPPLEMENTARY INFORMATION: On November 24, 2021, the NTSB published a notice request for comments in the Federal Register [86 FR 67092]. The purpose of this review was to seek external input via public comments and invited stakeholder reviews to shape priorities toward developing a new5-year strategic plan. All comments received were reviewed and considered in finalizing the current document. Comments for Docket No. NTSB-2021-0009 can be found at: https://www.regulations.gov/docket/NTSB-2021-0009.

Jennifer Homendy,
Chair.

[FR Doc. 2022-05513 Filed 3-15-22; 8:45 am]

BILLING CODE 7533-01-P